DEPARTMENT OF THE INTERIOR

National Park Service

[NPS-WASO-NAGPRA-14613; PPWOCRADN0-PCU00RP14.R50000]

Notice of Inventory Completion: American Museum of Natural History, New York, NY

AGENCY: National Park Service, Interior.

ACTION: Notice.

SUMMARY: The American Museum of Natural History has completed an inventory of human remains, in consultation with the appropriate Indian tribes or Native Hawaiian organizations, and has determined that there is a cultural affiliation between the human remains and present-day Indian tribes or Native Hawaiian organizations. Lineal descendants or representatives of any Indian tribe or Native Hawaiian organization not identified in this notice that wish to request transfer of control of these human remains should submit a written request to the American Museum of Natural History. If no additional requestors come forward, transfer of control of the human remains to the lineal descendants, Indian tribes, or Native Hawaiian organizations stated in this notice may proceed.

DATES: Lineal descendants or representatives of any Indian tribe or Native Hawaiian organization not identified in this notice that wish to request transfer of control of these human remains should submit a written request with information in support of the request to the American Museum of Natural History at the address in this notice by February 18, 2014.

ADDRESSES: Nell Murphy, Director of Cultural Resources, American Museum of Natural History, Central Park West at 79th Street, New York, NY 10024-5192, telephone (212) 769-5837, email nmurphy@amnh.org.

SUPPLEMENTARY INFORMATION: Notice is here given in accordance with the Native American Graves Protection and Repatriation Act (NAGPRA), 25 U.S.C. 3003, of the completion of an inventory of human remains under the control of the American Museum of Natural History, New York, NY. The human remains are believed to have been removed from the Missouri River region, ND.

This notice is published as part of the National Park Service's administrative responsibilities under NAGPRA, 25 U.S.C. 3003(d)(3). The determinations in this notice are the sole responsibility of the museum, institution, or Federal agency that has control of the Native American human remains. The National Park Service is not responsible for the determinations in this notice.

Consultation

A detailed assessment of the human remains was made by the American Museum of Natural History professional staff in consultation with representatives of the Three Affiliated Tribes of the Fort Berthold Reservation, North Dakota.

History and Description of the Remains

On an unknown date, human remains representing, at minimum, 1 individual, were removed from what we believe to be the Missouri River region of North Dakota. The remains of one adult of unknown sex were found among the American Museum of Natural History's collections during a recent collections review. The American Museum of Natural History has no information on the circumstances of the acquisition of these remains. No known individuals were identified. No associated funerary objects are present. The individual has been identified as Native American based on museum documentation that refers to the remains as “Arikikara Indianer.”

These remains have not been directly dated and although no information regarding the initial recovery of these remains is available, a provenience tag reading “Arikikara Indianer Missouri” was present. “Arikikara” likely represents an alternate spelling of Arikara and the mention of Missouri likely denotes the portion of the Missouri River drainage included in Sahnish (Arikara) aboriginal lands.

Determinations Made by the American Museum of Natural History

Officials of the American Museum of Natural History have determined that:

• Pursuant to 25 U.S.C. 3001(9), the human remains described in this notice represent the physical remains of 1 individual of Native American ancestry.

• Pursuant to 25 U.S.C. 3001(2), there is a relationship of shared group identity that can be reasonably traced between the Native American human remains and the Three Affiliated Tribes of the Fort Berthold Reservation, North Dakota.

Additional Requestors and Disposition

Lineal descendants or representatives of any Indian tribe or Native Hawaiian organization not identified in this notice that wish to request transfer of control of these human remains should submit a written request with information in support of the request to Nell Murphy, Director of Cultural Resources, American Museum of Natural History, Central Park West at 79th Street, New York, NY 10024-5192, telephone (212) 769-5837, email nmurphy@amnh.org., by February 18, 2014. After that date, if no additional requestors have come forward, transfer of control of the human remains to the Three Affiliated Tribes of the Fort Berthold Reservation, North Dakota, may proceed.

The American Museum of Natural History is responsible for notifying the Three Affiliated Tribes of the Fort Berthold Reservation, North Dakota, that this notice has been published.

Dated: December 4, 2013.
Melanie O'Brien,
Acting Manager, National NAGPRA Program.

[FR Doc. 2014-00765 Filed 1-15-14; 8:45 am]

BILLING CODE 4312-50-P